DEPARTMENT OF HOMELAND SECURITY

Coast Guard

33 CFR Part 117

[CGD01-04-016]

Drawbridge Operation Regulations: Neponset River, MA

AGENCY: Coast Guard, DHS.

ACTION: Notice of temporary deviation from regulations.

SUMMARY: The Commander, First Coast Guard District, has issued a temporary deviation from the drawbridge operation regulations for the Granite Avenue Bridge, mile 2.5, across the Neponset between Boston and Milton, Massachusetts. Under this temporary deviation the bridge need not open for the passage of vessel traffic from March 15, 2004 through April 14, 2004. This temporary deviation is necessary to facilitate mechanical repairs at the bridge.

DATES: This deviation is effective from March 15, 2004 through April 14, 2004.

FOR FURTHER INFORMATION CONTACT: John McDonald, Project Officer, First Coast Guard District, at (617) 223-8364.

SUPPLEMENTARY INFORMATION: The Granite Avenue Bridge has a vertical clearance in the closed position of 6 feet at mean high water and 16 feet at mean low water. The existing drawbridge operation regulations are listed at 33 CFR 117.611(a).

The bridge owner, Massachusetts Highway Department (MHD), requested a temporary deviation from the drawbridge operation regulations to facilitate necessary maintenance, the replacement of the brake and emergency systems, at the bridge. The bridge must remain in the closed position to perform these repairs.

The Coast Guard coordinated this closure with the mariners who normally use this waterway to help facilitate this necessary bridge repair and to minimize any disruption to the marine transportation system.

The bridge has not received any requests to open in March or April during the past seven (7) years.

Under this temporary deviation the Granite Avenue Bridge need not open for the passage of vessel traffic from March 15, 2004 through April 14, 2004.

This deviation from the operating regulations is authorized under 33 CFR 117.35, and will be performed with all due speed in order to return the bridge to normal operation as soon as possible.

Dated: March 12, 2004.
John L. Grenier,
Captain, U.S. Coast Guard, Acting Commander, First Coast Guard District.

[FR Doc. 04-6396 Filed 3-22-04; 8:45 am]

BILLING CODE 4910-15-P